DEPARTMENT OF THE INTERIOR

Fish and Wildlife Service

Draft Recovery Plan for the Kaua‘i Cave Arthropods: the Kaua‘i Cave Wolf Spider (Adelocosa Anops) and the Kaua‘i Cave Amphipod (Spelaeorchestia Koloana)

AGENCY: Fish and Wildlife Service, Interior.

ACTION: Notice of document availability for review and comment.

SUMMARY: The U.S. Fish and Wildlife Service (Service, we) announces the availability of the Draft Recovery Plan for the Kaua‘i Cave Arthropods: the Kaua‘i Cave Wolf Spider (Adelocosa anops) and the Kaua‘i Cave Amphipod (Spelaeorchestia koloana) for public review and comment.

DATE: Comments on the draft recovery plan must be received on or before April 11, 2005.

ADDRESSES: Copies of the draft recovery plan are available for inspection, by appointment, during normal business hours at the following locations: U.S. Fish and Wildlife Service, Pacific Islands Fish and Wildlife Office, 300 Ala Moana Boulevard, Room 3-122, Box 50088, Honolulu, Hawaii 96850 (telephone: 808-792-9400) and Hawaii State Library, 478 S. King Street, Honolulu, Hawaii 96813. Requests for copies of the draft recovery plan and written comments and materials regarding this plan should be addressed to the Field Supervisor, at the above Service address. An electronic copy of the draft recovery plan is also available at http>//endangered.fws.gov/recovery/index.html#plans.

FOR FURTHER INFORMATION CONTACT: Lorena Wada, Fish and Wildlife Biologist, at the above Service address.

SUPPLEMENTARY INFORMATION:

Background

Restoring endangered or threatened animals and plants to the point where they are again secure, self-sustaining members of their ecosystems is a primary goal of our endangered species program. To help guide the recovery effort, we are working to prepare recovery plans for most of the listed species native to the United States. Recovery plans describe actions considered necessary for the conservation of the species; establish criteria for the recovery levels for downlisting or delisting them, and estimate time and cost for implementing the recovery measures needed.

Section 4(f) of the Endangered Species Act, (16 U.S.C. 1531 et seq.) requires that public notice, and an opportunity for public review and comment, be provided during recovery plan development. We will consider all information presented during the public comment period on each new or revised recovery plan. Substantive technical comments may result in changes to a recovery plan. Substantive comments regarding recovery plan implementation may not necessarily result in changes to the recovery plans, but will be forwarded to appropriate Federal agency or other entities so that they can take these comments into account during the course of implementing recovery actions. Individual responses to comments will not be provided.

Two species of cave arthropod, the Kaua‘i cave wolf spider and the Kaua‘i cave amphipod, collectively the Kaua‘i cave arthropods, are federally listed as endangered. These arthropods are only known from a small number of caves in the Kõloa District on the island of Kaua‘i. Of the caves surveyed to date, the cave wolf spider has only been documented to occur in five caves, and currently is only observed regularly in one of these caves. The cave amphipod has been documented to occur in nine caves, and is currently observed regularly in two of these caves.

The Kaua‘i arthropods occur in subterranean passages, cracks, and voids (mesocaverns) where there is little or no light penetrance and the relative humidity is high and constant (at or approaching 100 percent). These conditions are most frequently encountered in the dark zones of caves and/or mesocaverns. Viable populations of these arthropods require a dependable source of nutrient input, typically in the form of roots from over-lying perennial plants.

The primary threats to these species include: Small populations and restricted range; urban and agricultural development as well as quarrying operations; non-native species preying upon or competing with them for limited food resources; human visitation and uses of caves; urban and commercial pesticide; biocontrol agents; and extended drought which alters the high-humidity environment to which these arthropods are adapted, which also facilitates invasion by nonnative species.

Downlisting to threatened may be considered for both species when nine viable populations, spread across the known range, are shown to be: (1) Self-sustaining; (2) stable or increasing; (3) protected from non-native/predatory species, human visitation to caves, bio-control agents, pesticides, development or other damaging land uses; and (4) with the habitat being utilized in a fashion consistent with conservation, as evidenced by monitoring over a 10-year period.

Delisting of both species may be considered when 12 viable populations, spread across the known range, are shown to be: (1) Self-sustaining; (2) stable or increasing; (3) protected from non-native/predatory species, human visitation to caves, bio-control agents, pesticides, development or other damaging land uses; and (4) with the habitat being utilized in a fashion consistent with conservation, as evidenced by monitoring over a 20-year period. In addition, a post-delisting monitoring plan and agreement to continue post-delisting monitoring must be in place and ready for implementation at the time of delisting. Monitoring populations following delisting will verify the ongoing recovery and conservation of the species and provide a means of assessing the continuing effectiveness of management actions.

Public Comments Solicited

We solicit written comments on the draft recovery plan as described. All comments received by the date specified above will be considered prior to approval of this plan.

Authority: The authority for this action is section 4(f) of the Endangered Species Act, 16 U.S.C. 1533(f).

Dated: November 18, 2004.
David J. Wesley,
Acting Regional Director, Region 1.

[FR Doc. 05-2492 Filed 2-8-05; 8:45 am]

BILLING CODE 4310-55-P